DEPARTMENT OF TRANSPORTATION

Federal Aviation Administration

14 CFR Part 39

[Docket No. FAA-2006-26490; Directorate Identifier 2006-CE-75-AD]

RIN 2120-AA64

Airworthiness Directives; Alpha Aviation Design Limited (Type Certificate No. A48EU Previously Held by APEX Aircraft and Avions Pierre ROBIN) Model R2160 Airplanes

AGENCY: Federal Aviation Administration (FAA), Department of Transportation (DOT).

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as:

To prevent failure of the wing structure and assembly components due to undetected fatigue and corrosion * * *

The proposed AD would require actions that are intended to address the unsafe condition described in the MCAI.

DATES: We must receive comments on this proposed AD by November 13, 2007.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Karl Schletzbaum, Aerospace Engineer, FAA, Small Airplane Directorate, 901 Locust, Room 301, Kansas City, Missouri 64106; telephone: (816) 329-4146; fax: (816) 329-4090.

SUPPLEMENTARY INFORMATION:

Comments Invited

We invite you to send any written relevant data, views, or arguments about this proposed AD. Send your comments to an address listed under the ADDRESSES section. Include “Docket No. FAA-2006-26490; Directorate Identifier 2006-CE-75-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

The Civil Aviation Authority (CAA), which is the airworthiness authority for New Zealand, has issued AD DCA/R2000/28, dated September 28, 2006 (referred to after this as “the MCAI”), to correct an unsafe condition for the specified products. The MCAI states:

To prevent failure of the wing structure and assembly components due to undetected fatigue and corrosion * * *

The MCAI requires that you inspect the wing structure and fuselage attachment and repair any defects that you find.

You may obtain further information by examining the MCAI in the AD docket.

Relevant Service Information

Avions Pierre Robin (recent type certificate responsibility was with APEX Aircraft and current responsibility with Alpha Aviation Design Limited) has issued Service Bulletin No. 123, revision 2, dated November 14, 1995; and Mandatory Service Bulletin No. 123, revision 3, issued December 23, 1999.

The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are described in a separate paragraph of the proposed AD. These requirements, if ultimately adopted, will take precedence over the actions copied from the MCAI.

Costs of Compliance

We estimate that this proposed AD will affect 10 products of U.S. registry. We also estimate that it will take about 15 work-hours per product to comply with basic requirements of this proposed AD. The average labor rate is $80 per work-hour. Required parts will cost about $1,326 per product.

Based on these figures, we estimate the cost of this proposed AD to the U.S. operators to be $25,260 or $2,526 per product.

We have no way to determine what aircraft will need replacement parts that may be required based on the results of any inspection.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Alpha Aviation Design Limited (Type Certificate No. A48EU previously held by Apex Aircraft and Avions Pierre Robin): Docket No. FAA-2006-26490; Directorate Identifier 2006-CE-75-AD.

Comments Due Date

(a) We must receive comments by November 13, 2007.

Affected ADs

(b) None.

Applicability

(c) This AD applies to Model R2160 airplanes, serial numbers 001 through 378, certificated in any category.

Reason

(d) The mandatory continuing airworthiness information (MCAI) states:

To prevent failure of the wing structure and assembly components due to undetected fatigue and corrosion * * *

The MCAI requires that you inspect the wing structure and fuselage attachment and repair any defects that you find.

Actions and Compliance

(e) Unless already done, do the following actions:

(1) For airplanes with less than 4,000 hours time-in-service (TIS): When the airplane reaches a total of 3,500 hours TIS or within the next 100 hours TIS after the effective date of this AD, whichever occurs later, and thereafter at intervals not to exceed 750 hours TIS, disassemble the wings from the fuselage and inspect the wing structure and assembly components following instruction No. 1 in Robin Aviation Service Bulletin No. 123, revision 3, dated December 23, 1999. If any defects are found, before further flight, repair following Robin Aviation Service Bulletin No. 123, revision 3, dated December 23, 1999; and Avions Pierre Robin Service Bulletin No. 123, revision 2, issued November 14, 1995.

(2) For airplanes with 4,000 hours TIS or more that do not have the special instruction in paragraph E of Avions Pierre Robin Service Bulletin No. 123, revision 2, dated November 14, 1995, incorporated: Within the next 100 hours TIS after the effective date of this AD and thereafter at intervals not to exceed 750 hours TIS, disassemble the wings from the fuselage and inspect the wing structure and assembly components following instruction No. 1 in Robin Aviation Service Bulletin No. 123, revision 3, dated December 23, 1999. If any defects are found, before further flight, repair following Robin Aviation Service Bulletin No. 123, revision 3, dated December 23, 1999; and Avions Pierre Robin Service Bulletin No. 123, revision 2, issued November 14, 1995.

(3) For airplanes with 4,000 hours TIS or more that have the special instruction in paragraph E of Avions Pierre Robin Service Bulletin No. 123, revision 2, dated November 14, 1995, incorporated: Within the next 750 hours TIS after the effective date of this AD and thereafter at intervals not to exceed 750 hours TIS, disassemble the wings from the fuselage and inspect the wing structure and assembly components following instruction No. 1 in Robin Aviation Service Bulletin No. 123, revision 3, dated December 23, 1999. If any defects are found, before further flight, repair following Robin Aviation Service Bulletin No. 123, revision 3, dated December 23, 1999; and Avions Pierre Robin Service Bulletin No. 123, revision 2, issued November 14, 1995.

(4) For all airplanes: When the airplane reaches a total of 3,500 hours TIS after installation of the wing-to-fuselage bolts or within the next 100 hours TIS after the effective date of this AD, whichever occurs later, do a non-destructive inspection of the wing-to-fuselage retaining bolts and replace any bolts that do not pass this inspection following instruction No. 2 in Robin Aviation Service Bulletin No. 123, revision 3, dated December 23, 1999.

(5) For all airplanes: Within the next 50 hours TIS after re-assembling the wing and thereafter at intervals not to exceed 100 hours TIS, inspect the wing-to-fuselage retaining bolts for correct torque settings following instruction No. 3 in Robin Aviation Service Bulletin No. 123, revision 3, dated December 23, 1999. The required torque value is 22 ft-lb with nut part number 95.24.39.010. Tighten to 16 ft-lb (pre-loading) and then torque from 16 to 22 ft-lb.

FAA AD Differences

Note: This AD differs from the MCAI and/or service information as follows: No Differences.

Other FAA AD Provisions

(f) The following provisions also apply to this AD:

(1) Alternative Methods of Compliance (AMOCs): The Manager, Standards Office, FAA, has the authority to approve AMOCs for this AD, if requested using the procedures found in 14 CFR 39.19. Send information to ATTN: Karl Schletzbaum, Aerospace Engineer, FAA, Small Airplane Directorate, 901 Locust, Room 301, Kansas City, Missouri 64106; telephone: (816) 329-4146; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(g) Refer to MCAI Civil Aviation Authority AD DCA/R2000/28, dated September 28, 2006; Avions Pierre Robin Service Bulletin No. 123, revision 2, issued November 14, 1995; and Robin Aviation Mandatory Service Bulletin No. 123, revision 3, issued December 23, 1999, for related information.

Issued in Kansas City, Missouri, on October 4, 2007.
David R. Showers,
Acting Manager, Small Airplane Directorate, Aircraft Certification Service.

[FR Doc. E7-20047 Filed 10-10-07; 8:45 am]

BILLING CODE 4910-13-P